FEDERAL COMMUNICATIONS COMMISSION

47 CFR Part 73

[DA 03-588; MM Docket No. 01-132; RM-10149]

Radio Broadcasting Services; Junction, Texas

AGENCY: Federal Communications Commission.

ACTION: Final rule.

SUMMARY: In response to a Notice of Proposed Rule Making, 66 FR 35406 (July 5, 2001) in this proceeding, this Report and Order allots Channel 297A to Junction Texas and provides Junction with its third local aural transmission service. The coordinates for Channel 297A at Junction are 30-27-27 North Latitude and 99-46-07 West Longitude, with a site restriction of 3.5 kilometers (2.2 miles) south of Junction.

DATES: Effective April 28, 2003.

FOR FURTHER INFORMATION CONTACT: R. Barthen Gorman, Media Bureau, (202) 418-2180.

SUPPLEMENTARY INFORMATION: This is a synopsis of the Commission's Report and Order, MM Docket No. 01-132, adopted March 12, 2003, and released March 14, 2003. The full text of this Commission decision is available for inspection and copying during normal business hours in the FCC's Reference Information Center at Portals II, 445 12th Street, SW., Room CY-A257, Washington, DC 20554. The document may also be purchased from the Commission's duplicating contractor, Qualex International, Portals II, 445 12th Street, SW., Room CY-B402, Washington, DC 20554, telephone 202 863-2893. facsimile 202 863-2898, or via e-mail qualexint@aol.com.

List of Subjects in 47 CFR Part 73

Radio, Radio broadcasting.

Part 73 of title 47 of the Code of Federal Regulations is amended as follows:

PART 73—RADIO BROADCAST SERVICES

1. The authority citation for part 73 reads as follows:

Authority: 47 U.S.C. 154, 303, 334 and 336.

§ 73.202 [Amended]

2. Section 73.202(b), the Table of FM Allotments under Texas, is amended by adding Channel 297A at Junction.

Federal Communications Commission.
John A. Karousos,
Assistant Chief, Audio Division, Media Bureau.

[FR Doc. 03-7464 Filed 3-27-03; 8:45 am]

BILLING CODE 6712-01-P